Proclamation 8573 of October 1, 2010

National Cybersecurity Awareness Month, 2010

By the President of the United States of America

A Proclamation

America’s digital infrastructure is critical to laying the foundation for our economic prosperity, government efficiency, and national security. We stand at a transformational moment in history, when our technologically interconnected world presents both immense promise and potential risks. The same technology that provides new opportunities for economic growth and the free exchange of information around the world also makes possible new threats. During National Cybersecurity Awareness Month, we recognize the risk of cyber attacks and the important steps we can take to strengthen our digital literacy and cybersecurity.

America relies on our digital infrastructure daily, and protecting this strategic asset is a national security priority. My Administration is committed to advancing both the security of our informational infrastructure and the cutting-edge research and development necessary to meet the digital challenges of our time. Earlier this year, we marked the one-year anniversary of my Administration’s thorough review of Federal efforts to defend our Nation’s information technology and communications infrastructure. We must continue to work closely with a broad array of partners—from Federal, State, local, and tribal governments to foreign governments, academia, law enforcement, and the private sector—to reduce risk and build resilience in our shared critical information and communications infrastructure.

All Americans must recognize our shared responsibility and play an active role in securing the cyber networks we use every day. National Cybersecurity Awareness Month provides an opportunity to learn more about the importance of cybersecurity. To that end, the Department of Homeland Security and the Federal Trade Commission have highlighted basic cybersecurity tips every computer user should adopt, including using security software tools, backing up important files, and protecting children online. I urge all Americans to visit DHS.gov/Cyber and OnGuardOnline.gov for more information about practices that can enhance the security of our shared cyber networks.

Effective cyber networks connect us and allow us to conduct business around the globe faster than ever before. We must advance innovative public- and private-sector initiatives to protect the confidentiality of sensitive information, the integrity of e-commerce, and the resilience of our cyber infrastructure. Together with businesses, community-based organizations, and public- and private-sector partners, we are launching a National Cybersecurity Awareness Campaign: “Stop. Think. Connect.” Through this initiative, Americans can learn about and become more aware of risks in cyberspace, and be empowered to make choices that contribute to our overall security.

The growth and spread of technology has already transformed international security and the global marketplace. So long as the United States—the Nation that created the Internet and launched an information revolution—continues to be a pioneer in both technological innovation and cybersecurity, we will maintain our strength, resilience, and leadership in the 21st century.

NOW, THEREFORE, I, BARACK OBAMA, President of the United States of America, by virtue of the authority vested in me by the Constitution and the laws of the United States, do hereby proclaim October 2010 as National Cybersecurity Awareness Month. I call upon the people of the United States to recognize the importance of cybersecurity and to observe this month with activities, events, and trainings that will enhance our national security and resilience.

IN WITNESS WHEREOF, I have hereunto set my hand this first day of October, in the year of our Lord two thousand ten, and of the Independence of the United States of America the two hundred and thirty-fifth.

[FR Doc. 2010-25573

Filed 10-7-10; 8:45 am]

Billing code 3195-W1-P